DEPARTMENT OF TRANSPORTATION

Pipeline and Hazardous Materials Safety Administration

[Docket No. PHMSA-2018-0113; Notice No. 2018-23]

Hazardous Materials: Notice of Public Meetings in 2019 for International Standards on the Transport of Dangerous Goods

AGENCY: Pipeline and Hazardous Materials Safety Administration (PHMSA), Department of Transportation (DOT).

ACTION: Notice of 2019 public meetings.

SUMMARY: This notice announces that PHMSA will host four public meetings during 2019 in advance of certain international meetings. For each of these meetings, PHMSA will solicit public input on current proposals. The first meeting will be held in preparation to the International Civil Aviation Organization's (ICAO) Dangerous Goods Panel (DGP) Working Group 19 meeting (WG/19) being held April 1-5, 2019, in Montreal, Canada. The second meeting will be held in preparation to the 55th session of the United Nations Sub-Committee of Experts on the Transport of Dangerous Goods (UNSCOE TDG) being held July 1-5, 2019, in Geneva, Switzerland. The third meeting will be held in preparation to the 27th meeting of the ICAO DGP (DGP/27) being held September 9-20, 2019, in Montreal, Canada. Finally, the fourth meeting will be held in preparation to the 56th session of the UNSCOE TDG being held December 2-11, 2019, in Geneva, Switzerland.

Time and Location: Each public meeting will take place approximately two weeks preceding the international meeting at DOT Headquarters, West Building, 1200 New Jersey Avenue SE, Washington, DC 20590-0001. Specific information for each meeting will be posted when available on the PHMSA website at https://www.phmsa.dot.gov/international-program/international-program-overview under “Upcoming Events.” This information will include the public meeting date, time, conference call-in number, and details for advanced registration.

FOR FURTHER INFORMATION CONTACT: Steven Webb or Aaron Wiener, International Program Office of Hazardous Materials Safety, Department of Transportation, Washington, DC 20590, (202) 366-8553.

SUPPLEMENTARY INFORMATION: The purpose of PHMSA's public meetings is to allow the public a chance to give input on the current meeting proposals.

The 55th and 56th sessions of the UNSCOE TDG will represent the first and second meetings scheduled for the 2019-2020 biennium. The UNSCOE TDG will consider proposals for the 22nd Revised Edition of the United Nations Recommendations on the Transport of Dangerous Goods: Model Regulations (Model Regulations), which may be implemented into relevant domestic, regional, and international regulations starting January 1, 2023. Copies of working documents, informal documents, the agenda, and the post-meeting final report may be obtained from the United Nations Transport Division's website at http://www.unece.org/trans/danger/danger.html.

The ICAO WG/19 and DGP/27 meetings will represent the second and third meetings of the 2018-2019 biennium. The ICAO DGP will consider proposals for the 2021-2022 edition of the Technical Instructions for the Safe Transport of Dangerous Goods by Air (Doc 9284). Copies of working papers, information papers, the agenda, and the post-meeting final report may be obtained from the ICAO DGP website at https://www.icao.int/safety/DangerousGoods/Pages/DGPMeetings.aspx.

Signed on March 22, 2019, at Washington, DC.
William S. Schoonover,
Associate Administrator for Hazardous Materials Safety, Pipeline and Hazardous Materials Safety Administration.

[FR Doc. 2019-05892 Filed 3-27-19; 8:45 am]

BILLING CODE 4910-60-P